SOCIAL SECURITY ADMINISTRATION

Privacy Act of 1974 as Amended; Computer Matching Program (SSA/HCFA) Match Number 1094

AGENCY: Social Security Administration (SSA).

ACTION: Notice of computer matching program.

SUMMARY: In accordance with the provisions of the Privacy Act, as amended, this notice announces a computer matching program that SSA plans to conduct with the Health Care Financing Administration.

DATES: SSA will file a report of the subject matching program with the Committee on Governmental Affairs of the Senate, the Committee on Government Reform and Oversight of the House of Representatives, and the Office of Information and Regulatory Affairs, Office of Management and Budget (OMB). The matching program will be effective as indicated below.

ADDRESSES: Interested parties may comment on this notice by either telefax to (410) 966-2935 or writing to the Associate Commissioner, Office of Program Support, 2-Q-16 Operations Building, 6401 Security Boulevard, Baltimore, MD 21235-6401. All comments received will be available for public inspection at this address.

FOR FURTHER INFORMATION CONTACT: The Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires Federal agencies involved in computer matching programs to:

(1) Negotiate written agreements with the other agency or agencies participating in the matching programs;

(2) Obtain the Data Integrity Boards' approval of the match agreements;

(3) Furnish detailed reports about matching programs to Congress and OMB;

(4) Notify applicants and beneficiaries that their records are subject to matching; and

(5) Verify match findings before reducing, suspending, terminating, or denying an individual's benefits or payments.

B. SSA Computer Matches Subject to the Privacy Act

We have taken action to ensure that all of SSA's computer matching programs comply with the requirements of the Privacy Act, as amended.

Dated: November 21, 2000.
Susan M. Daniels,
Deputy Commissioner for Disability and Income Security Programs.

Notice of Computer Matching Program, Health Care Financing Administration (HCFA) With the Social Security Administration (SSA)

A. Participating Agencies

SSA and HCFA.

B. Purpose of the Matching Program

The purpose of this matching program is to establish the conditions, safeguards and procedures under which HCFA agrees to disclose Medicare non-utilization data to SSA. In some instances, if an individual has not used Medicare benefits for an extended period of time, this may indicate that the individual is deceased. SSA will use the selected data as an indicator of cases that should be reviewed to determine continued eligibility to SSA administered programs.

C. Authority for Conducting Matching Program

Sections 202 (42 U.S.C. 402) and 205(c) (42 U.S.C.405(c)) of the Social Security Act.

D. Categories of Records and Individuals Covered by the Matching Program

SSA will periodically furnish HCFA with an electronic finder file containing Title II Claim Account Number (CAN) and Title II Beneficiary Identification Code (BIC)) of beneficiaries from SSA's file of Master Beneficiary Records (SSA/OSR 60-0090) who receive Medicare.

SSA will request HCFA to match the finder file against their National Claims History (09-70-0005) and the Health Insurance Master Record (09-70-0502) and release an electronic file to SSA containing certain identifying information on enrollees who have not used Medicare for a specified period of at least 12 consecutive months.

E. Inclusive Dates of the Match

The matching program shall become effective no sooner than 40 days after notice for the program is sent to Congress and OMB, or 30 days after publication of this notice in the Federal Register, whichever date is later. The matching program will continue for 18 months from the effective date and may be extended for an additional 12 months thereafter, if certain conditions are met.

[FR Doc. 01-3582 Filed 2-12-01; 8:45 am]

BILLING CODE 4191-02-P